DEPARTMENT OF THE TREASURY

Internal Revenue Service

26 CFR Parts 1 and 301

[REG-146893-02, REG-115037-00]

RIN 1545-BB31, 1545-AY38

Treatment of Services Under Section 482; Allocation of Income and Deductions From Intangibles; Correction

AGENCY: Internal Revenue Service (IRS), Treasury.

ACTION: Correction to a correction of a notice of proposed rulemaking and notice of public hearing.

SUMMARY: This document contains corrections to a correction of a notice of proposed rulemaking and notice of public hearing that was published in the Federal Register on Wednesday, December 17, 2003 (68 FR 70214). The proposed regulations provide guidance regarding the treatment of controlled services transactions under section 482 and the allocation of income from intangibles, in particular when one controlled taxpayer performs activities that increase (or are expected to increase) the value of an intangible owned by another controlled taxpayer.

FOR FURTHER INFORMATION CONTACT: Helen Hong-George, (202) 435-5265 (not a toll free number).

SUPPLEMENTARY INFORMATION:

Background

The notice of proposed rulemaking and notice of public hearing that is the subject of this correction is under section 482 of the Internal Revenue Code.

Need for Correction

As published, the correction to the notice of proposed rulemaking and notice of public hearing contains errors that may prove to be misleading and are in need of clarification.

Correction of Publication

Accordingly, the publication of the correction to a notice of proposed regulations and notice of public hearing (REG-146893-02, REG-115037-00), that was the subject of FR Doc. 03-31034, is corrected as follows:

On page 70215, column 1, item 3, third line from the bottom of the paragraph, the language, “expressed as ration” is corrected to read “expressed as ratio”.

Cynthia E. Grigsby,
Acting Chief, Publications and Regulations Branch, Legal Processing Division, Associate Chief Counsel, (Procedures and Administration).

[FR Doc. 03-31824 Filed 12-31-03; 8:45 am]

BILLING CODE 4830-01-P